DEPARTMENT OF JUSTICE

Parole Commission

Sunshine Act Meetings; Record of Vote of Meeting Closure; (Pub. L. 94-409) (5 U.S.C. 552b)

I, Isaac Fulwood, Chairman of the United States Parole Commission, was present at a meeting of the Commission on Thursday, May 17, 2012 at approximately 11:30 a.m.. The meeting was held at the Commission's office, 90 K Street NE., 3rd Floor, Washington, DC 20530. The purpose of the meeting was to discuss and decide three original jurisdiction petitions for reconsideration under 28 CFR 2.27. Three Commissioners were present, constituting a quorum when the vote to close the meeting was submitted.

Public announcement describing the subject matter of the meeting and certification of the General Counsel that this meeting may be closed by votes of the Commissioners present were submitted to the Commissioners before the conduct of any other business. Upon motion duly made, seconded and carried, the following Commissioners voted that the meeting should be closed: Isaac Fulwood, Cranston J. Mitchell and Patricia Cushwa.

In witness whereof, I make this official record of the vote taken to close the meeting and authorize this record to be made available to the public.

Dated: May 21, 2012.
Isaac Fulwood,
Chairman, United States Parole Commission.

[FR Doc. 2012-12744 Filed 5-22-12; 11:15 am]

BILLING CODE 4410-31-P